DEPARTMENT OF ENERGY

Federal Energy Regulatory Commission

[Docket No. RP02-476-002]

Iroquois Gas Transmission System, L.P.; Notice of Compliance Filing

October 30, 2002.

Take notice that on October 23, 2002, Iroquois Gas Transmission System, L.P. (Iroquois) tendered for filing as part of its FERC Gas Tariff, First Revised Volume No. 1, the following tariff sheet proposed, to become effective November 1, 2002:

2nd Substitute Third Revised Sheet No. 123

It has come to Iroquois attention that there was a typographical error within Substitute Third Revised Sheet No. 123, which was originally filed on October 15, 2002 in the above captioned proceeding. Therefore, Iroquois is resubmitting Second Substitute Third Revised Sheet No. 123.

Iroquois states that copies of its filing were served on all jurisdictional customers and interested state regulatory agencies and all parties to the proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERCOnline Support at FERCOnlineSupport@ferc.gov or toll-free at (866) 208-3676, or for TTY, contact (202) 502-8659. The Commission strongly encourages electronic filings. See, 18 CFR 385.2001(a)(1)(iii) and the instructions on the Commission's Web site under the “e-Filing” link.

Linwood A. Watson, Jr.,
Deputy Secretary.

[FR Doc. 02-28178 Filed 11-4-02; 8:45 am]

BILLING CODE 6717-01-P